NUCLEAR REGULATORY COMMISSION

[Docket No. 50-285, NRC-2013-0111]

Omaha Public Power District, Fort Calhoun Station, Unit 1

AGENCY: Nuclear Regulatory Commission.

ACTION: Request for action; receipt.

SUMMARY: The U.S. Nuclear Regulatory Commission (NRC) is giving notice that by petition dated June 21, 2012, Mr. Wallace Taylor (the petitioner) has requested that the NRC take enforcement action against Fort Calhoun Station, Unit 1 (FCS). The petitioner's requests are included in the SUPPLEMENTARY INFORMATION section of this document.

ADDRESSES: Please refer to Docket ID NRC-2013-0111 when contacting the NRC about the availability of information regarding this document. You may access information related to this document, which the NRC possesses and is publicly available, using any of the following methods:

• Federal Rulemaking Web site: Go to http://www.regulations.gov and search for Docket ID NRC-2013-0111. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

SUPPLEMENTARY INFORMATION: On June 21, 2012 (ADAMS Accession No. ML11174A228), the petitioner requested that the NRC take enforcement action with regard to FCS. The petitioner also met with the Petition Review Board (PRB) and supplemented its petition during a teleconference on August 27 and November 19, 2012 (ADAMS Accession Nos. ML12250A714, and ML12352A279, respectively). As a basis for the request, the petitioner states that the NRC's own guidelines regarding enforcement sanctions would categorize the events at FCS over the past 20 years at Severity Level I, the highest level, because those events involve (1) Situations involving particularly poor licensee performance, or involving willfulness; (2) situations when the violation results in a substantial increase in risk, including cases in which the duration of the violation has contributed to the substantial increase; and (3) situations in which the licensee made a conscious decision to be in noncompliance to obtain an economic benefit (63 FR 26630-01, 26642; May 13, 1998). The petitioner states that the NRC considers these violations to be of significant concern, and it may apply its full enforcement action to remedy these violations, including issuing appropriate orders. Id. The petitioner provided supplemental information in support of the petition and states that (1) A support beam was found that was not within allowable limits for stress and loading; (2) given Exelon's long history of deliberate misconduct and willful violations at its various nuclear plants around the United States, day-to-day management of FCS by Exelon is likely to worsen FCS' performance rather than improve it; (3) the flooding hazard at Fort Calhoun greatly exceeds its flooding protection measures at this time; (4) FCS' risk of flooding from each of the six upstream dams has not been evaluated or resolved; and (5) the identification of 614 primary reactor containment electrical penetration seals containing Teflon that could degrade during design-basis accident conditions.

The request is being treated pursuant to § 2.206 of Title 10 of the Code of Federal Regulations, “Requests for Action under This Subpart,” of the Commission's regulations. The request has been referred to the Director of the Office of Nuclear Reactor Regulation (NRR). As provided by § 2.206, appropriate action will be taken on this petition within a reasonable time. The petitioner requested an opportunity to address the NRR Petition Review Board (PRB). The PRB held recorded teleconferences with the petitioner during which the petitioner supplemented and clarified the petition. The PRB considered results of those discussions in its determination regarding the petitioner's request. As a result, the PRB acknowledged the petitioner's concerns about containment internal structures, electrical penetrations, and upstream dam failures. The NRC is currently reviewing the issues above related to containment internal structures, electrical penetrations, and upstream dam failures. Both the containment internal structures and electrical penetrations issues have been identified as issues that must be resolved before restart of the facility and have been added to the confirmatory action letter (ADAMS Accession No. ML13057A287). Additionally, the PRB noted that natural disasters, such as flooding, are undergoing NRC review as part of the lessons learned from the Fukushima Dai-ichi event in Japan. The NRC staff is evaluating the effect of multiple upstream dam failures as a part of the Fukushima Dai-ichi reviews, as well as other processes. The PRB intends to use the results of the aforementioned reviews to inform its final decision on whether to implement the requested actions.

Dated at Rockville, Maryland, this 19th day of June 2013.
For the Nuclear Regulatory Commission.
Jennifer L. Uhle,
Deputy Director, Reactor Safety Programs, Office of Nuclear Reactor Regulation.

[FR Doc. 2013-15524 Filed 6-27-13; 8:45 am]

BILLING CODE 7590-01-P